SURFACE TRANSPORTATION BOARD

[Docket No. EP 290 (Sub-No. 4)]

Railroad Cost Recovery Procedures—Productivity Adjustment

AGENCY: Surface Transportation Board.

ACTION: Presentation of the Board's calculation for the change in railroad productivity for the 2015-2019 averaging period.

SUMMARY: In a decision served on February 19, 2021, the Board proposed to adopt 1.008 (0.8% per year) as the measure of average (geometric mean) change in railroad productivity for the 2015-2019 (five-year) period. The Board's February 19, 2021 decision stated that comments may be filed addressing any perceived data and computational errors in the Board's calculation. The decision also stated that, unless a further order is used postponing the effective date, the decision will take effect on March 11, 2021.

DATES: Comments are due by March 8, 2021.

ADDRESSES: Comments may be e-filed on the Board's website at www.stb.gov. Comments must be served on all parties appearing on the service list.

FOR FURTHER INFORMATION CONTACT: Pedro Ramirez at (202) 245-0333. Assistance for the hearing impaired is available through the Federal Relay Service at (800) 877-8339.

SUPPLEMENTARY INFORMATION: Additional information is contained in the Board's decision, which is available at www.stb.gov.

Authority: 49 U.S.C. 10708.

Decided: February 18, 2021.
By the Board, Board Members Begeman, Fuchs, Oberman, Primus, and Schultz.
Brendetta Jones,
Clearance Clerk.

[FR Doc. 2021-03805 Filed 2-23-21; 8:45 am]

BILLING CODE 4915-01-P